DEPARTMENT OF HOUSING AND URBAN DEVELOPMENT

[Docket No. FR-5044-N-21]

Notice of Proposed Information Collection for Public Comment; Public Housing, Contracting With Resident-Owned Businesses

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments due date: January 16, 2007.

ADDRESSES: Interested persons are invited to submit comments regarding this proposal. Comments should refer to the proposal by name/or OMB Control number and should be sent to: Aneita Waites, Reports Liaison Officer, Public and Indian Housing, Department of Housing and Urban Development, 451 7th Street, SW., Room 4114, Washington, DC 20410-5000.

FOR FURTHER INFORMATION CONTACT: Aneita Waites, (202) 708-0713, extension 4114, for copies of proposed forms and/or other available documents. (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing, Contracting with Resident-Owned Businesses.

OMB Control Number: 2577-0161.

Description of the need for the information and proposed use: Eligible resident-owned businesses submit applications to Housing Agencies (HAs) to be approved for noncompetitive contract work on public housing sites as an alternative to HUD's otherwise-required competitive procurement procedures. In order for a resident-owned business to be eligible for noncompetitive contract work, or the alternative procurement process provided by 24 CFR 963, a business must submit evidence as outlined in 24 CFR 963.10 to the PHA, in the formed described therein, or as the PHA may require, that shows how each requirement as described in 24 CFR 963.10 has been met.

For example, resident-owned businesses must provide, and PHAs must collect various types of information, including, but not limited to:

Certified copies of any State, county, or municipal licenses that may be required of the business to engage in the type of business activity for which it was formed. Where applicable (as for example, in the case of corporations), the business also shall submit a certified copy of its corporate charter or other organizational document that verifies that the business was properly formed in accordance with State law.

The business shall disclose to the PHA all owners of the business, and each owner's percentage of ownership interest in the business. The business also shall disclose all individuals who possess the power to make the day-to-day, as well as major, decisions on matters of management, policy and operations (management officials). The business shall identify all owners and management officials who are not public housing residents, and shall disclose any relationship that these owners and officials may have to a business (resident- or non-resident-owned) engaged in the type of business activity with which the resident-owned business is engaged. The business also shall submit such evidence as the PHA may require to verify that the owner or owners identified as public housing residents reside within public housing of the PHA.

The business shall submit evidence sufficient to demonstrate to the satisfaction of the PHA that the business has the ability to perform successfully under the terms and conditions of the proposed contract.

The business shall submit a certification as to the number of contracts awarded, and the dollar amount of each contract award received, under the alternative procurement process provided by 24 CFR 963. A resident-owned business is not eligible to participate in the alternative procurement process provided by 24 CFR 963 if the resident-owned business has received under this process one or more contracts with a total combined dollar value of $1,000,000.

For additional information, please refer to 24 CFR 963, 24 CFR 85.36(d) and 85.36(b).

Agency form number, if applicable: Not applicable.

Members of affected public: Individuals or Households, Not-For-Profit Institutions, State, Local or Tribal Government.

Estimation of the total number of hours needed to prepare the information collection including number of respondents:

Number of respondents | × | Frequency of response | × | Hours per response | = | Burden hours
500 |  | 1 |  | 17 |  | 8,500

Total Estimated Burden Hours: 8,500.

Status of the proposed information collection: Extension of a currently approved collection.

Authority: Section 3506 of the Paperwork Reduction Act of 1995, 44 U.S.C. Chapter 35, as amended.

Dated: November 8, 2006.
Merrie Nichols-Dixon,
Acting Deputy Assistant Secretary, Office of Policy, Program and Legislative Initiative.

[FR Doc. E6-19299 Filed 11-15-06; 8:45 am]

BILLING CODE 4210-67-P